DEPARTMENT OF LABOR

Occupational Safety and Health Administration

29 CFR Parts 1910, 1915, 1917, 1918, and 1926

[Docket No. OSHA-2011-0184]

RIN 1218-AC65

Updating OSHA Standards Based on National Consensus Standards; Head Protection

AGENCY: Occupational Safety and Health Administration (OSHA), Labor.

ACTION: Final rule; confirmation of effective date.

SUMMARY: OSHA is confirming the effective date of its direct final rule that revises the Head Protection standards for general industry, shipyard employment, marine terminals, longshoring, and construction by updating the reference to a standard published by a standards-developing organization, the American National Standards Institute. In the June 22, 2012, direct final rule, OSHA stated that it would withdraw the companion proposed rule and confirm the effective date of the direct final rule if the Agency received no significant adverse comments. OSHA did not receive significant adverse comments on the direct final rule. Therefore, OSHA is confirming that the direct final rule became effective on September 20, 2012.

DATES: The direct final rule published on June 22, 2012 (77 FR 37587), was effective on September 20, 2012. For the purposes of judicial review, OSHA considers November 16, 2012, as the date of issuance.

ADDRESSES: In compliance with 28 U.S.C. 2112(a), OSHA designates the Associate Solicitor of Labor for Occupational Safety and Health as the recipient of petitions for review of the final standard. Contact Joseph M. Woodward, Associate Solicitor, at the Office of the Solicitor, Room S-4004, U.S. Department of Labor, 200 Constitution Avenue NW., Washington, DC 20210; telephone: (202) 693-5445.

FOR FURTHER INFORMATION CONTACT: General information and press inquiries: Frank Meilinger, Director, OSHA Office of Communications, Room N-3647, U.S. Department of Labor, 200 Constitution Avenue NW., Washington, DC 20210; telephone: (202) 693-1999.

Technical information: Ken Stevanus, Directorate of Standards and Guidance, Room N-3609, OSHA, U.S. Department of Labor, 200 Constitution Avenue NW., Washington, DC 20210; telephone: (202) 693-2260; fax: (202) 693-1663.

SUPPLEMENTARY INFORMATION: Copies of this Federal Register notice: Electronic copies of this Federal Register notice are available at http://www.regulations.gov. This Federal Register notice, as well as news releases and other relevant information, also is available at OSHA's Web page at http://www.osha.gov.

Confirmation of the effective date: On June 22, 2012, OSHA published a direct final rule (DFR) in the Federal Register that revised its Head Protection standards for general industry at 29 CFR 1910.135, shipyard employment at 29 CFR 1915.155, marine terminals at 29 CFR 1917.93, longshoring at 29 CFR 1918.103, and construction at 29 CFR 1926.100 by updating a reference to the American National Standards Institute (ANSI) head protection standard (see 77 FR 37587). In the DFR, OSHA deleted a reference to ANSI Z89.1-1986, and replaced it with a reference to ANSI Z89.1-2009. In addition, in the DFR, OSHA deleted references to ANSI Z89.1-1969 and ANSI Z89.2-1971 in its construction standard at 29 CFR 1926.100, and replaced them with the same three references specified in the general industry, shipyard employment, marine terminals, and longshoring head-protection standards.

In that Federal Register document, OSHA also stated that it would confirm the effective date of the DFR if the Agency received no significant adverse comments. OSHA received two comments on the DFR, neither of which were significant adverse comments (see Document IDs OSHA-2011-0184-0003 and -0004). To the contrary, both comments supported the DFR.

List of Subjects in 29 CFR Parts 1910, 1915, 1917, 1918, and 1926

Head protection, Incorporation by reference, Occupational safety and health, Safety.

Authority and Signature

David Michaels, Ph.D., MPH, Assistant Secretary of Labor for Occupational Safety and Health, U.S. Department of Labor, 200 Constitution Avenue NW., Washington, DC 20210, authorized the preparation of this final rule. OSHA is issuing this final rule pursuant to 29 U.S.C. 653, 655, and 657, 5 U.S.C. 553, Secretary of Labor's Order 1-2012 (77 FR 3912), and 29 CFR part 1911.

Signed at Washington, DC, on November 8, 2012.
David Michaels,
Assistant Secretary of Labor for Occupational Safety and Health.

[FR Doc. 2012-27792 Filed 11-15-12; 8:45 am]

BILLING CODE 4510-26-P